DEPARTMENT OF TRANSPORTATION

Research and Special Programs Administration

49 CFR Part 192

[Docket No. RSPA-00-7666; Amendment 192-95]

RIN 2137-AD54

Pipeline Safety: Pipeline Integrity Management in High Consequence Areas (Gas Transmission Pipelines)

AGENCY: Office of Pipeline Safety (OPS), Research and Special Programs Administration (RSPA), DOT.

ACTION: Final rule; correction.

SUMMARY: This document corrects a final rule published in the Federal Register on December 15, 2003, (68 FR 69778) and a correction document to that rule published in the Federal Register on April 6, 2004 (69 FR 18228). The final rule of December 15, 2003, requires operators to develop integrity management programs for gas transmission pipelines located where a leak or rupture could do the most harm, i.e., where a gas transmission pipeline could impact a high consequence area (HCA). This document makes minor corrections to the rule.

DATES: Effective Date: The effective date is May 26, 2004.

FOR FURTHER INFORMATION CONTACT: Mike Israni by phone at (202) 366-4571, by fax at (202) 366-4566, or by e-mail at mike.israni@rspa.dot.gov, regarding the subject matter of the final rule.

SUPPLEMENTARY INFORMATION:

Background

On December 15, 2003, RSPA/OPS published a final rule (68 FR 69778) that requires operators of gas transmission pipelines to develop and implement a comprehensive integrity management program for pipeline segments located in areas where a failure would have the greatest impact to the public or property. On April 6, 2004, RSPA/OPS published a correction rule that made editorial and typographical corrections to the final rule and addressed a petition for reconsideration filed by the Interstate Natural Gas Association of America.

Purpose for This Document

The April 6, 2004, correction rule contained errors. This correction document corrects those errors and corrects additional errors identified in the December 15, 2003, final rule.

Corrections and Clarifications

In the April 6, 2004, correction rule, RSPA/OPS amended the definition of “high consequence areas” by clarifying that an operator using Method (1) to identify these areas would have to calculate and evaluate potential impact circles on any transmission line in a Class 1 or Class 2 location. RSPA/OPS removed the phrase “outside a Class 3 or Class 4 location” to clarify that an operator does not have to evaluate segments that have already been classified as “high consequence areas.” However, RSPA/OPS erroneously used the term “potential impact radius” in paragraph (1)(iv) instead of the term “potential impact circle.” In this correction rule, RSPA/OPS is replacing the word “radius” with “circle.”

Section 192.925 sets forth the requirements for external corrosion direct assessment. This was change number 9 in the April 6, 2004 correction rule. In that document, RSPA/OPS revised the introductory text in paragraph (b) to clarify what an operator is required to do if the External Corrosion Direct Assessment detects pipeline coating damage. RSPA/OPS has since become aware that the Federal Register read this instruction as revising paragraph (b) and as deleting the further requirements in subparagraphs (b)(1) through (b)(4). RSPA/OPS did not intend for the revision to delete these requirements. This correction rule adds back to the final rule the missing requirements of paragraphs (b)(1) through (b)(4). This correction rule presents § 192.925(b) in its entirety, with the revised language in the introductory paragraph.

In the April 6, 2004, correction rule, we revised paragraph (d) of § 192.935 to include requirements for additional preventive and mitigative measures for a pipeline operating below 30% SMYS located in a Class 3 or Class 4 area. In the requirements, we referenced the reassessment requirements of §§ 192.941(b) and 192.941(c). RSPA/OPS did not mean to add these references as they only add confusion to the final rule. In this correction rule, RSPA/OPS is removing the references to the reassessment requirements of §§ 192.941(b) and 192.941(c) to avoid further confusion.

Section I of Appendix E provides additional guidance on determining a high consequence area. The second sentence in this section erroneously states that an operator must use method (a) or (b) from the definition in § 192.903 to identify a “high consequence area.” The sentence is now corrected to state that an operator must use method (1) or (2) from the definition in § 192.903 to identify a “high consequence area.”

List of Subjects in 49 CFR Part 192

High consequence areas, Incorporation by reference, Integrity management, Pipeline safety, Potential impact areas, Reporting and recordkeeping requirements.

Accordingly, 49 CFR Part 192 is corrected by making the following correcting amendments:

PART 192—[AMENDED]

1. The authority citation for part 192 continues to read as follows:

Authority: 49 U.S.C. 5103, 60102, 60104, 60108, 60109, 60110, 60113, and 60118; and 49 CFR 1.53.

§ 192.903 [Amended]

2. In § 192.903 the definition of “high consequence area” is amended by removing the word “radius” from paragraph (1)(iv) and adding the word “circle” in its place.

3. Section 192.925 is amended by revising paragraph (b) to read as follows:

§ 192.925 What are the requirements for using External Corrosion Direct Assessment (ECDA)?

* * * * *

(b) General requirements. An operator that uses direct assessment to assess the threat of external corrosion must follow the requirements in this section, in ASME/ANSI B31.8S (ibr, see § 192.7), section 6.4, and in NACE RP 0502-2002 (ibr, see § 192.7). An operator must develop and implement a direct assessment plan that has procedures addressing preassessment, indirect examination, direct examination, and post-assessment. If the ECDA detects pipeline coating damage, the operator must also integrate the data from the ECDA with other information from the data integration (§ 192.917(b)) to evaluate the covered segment for the threat of third party damage, and to address the threat as required by § 192.917(e)(1).

(1) Preassessment. In addition to the requirements in ASME/ANSI B31.8S section 6.4 and NACE RP 0502-2002, section 3, the plan's procedures for preassessment must include—

(i) Provisions for applying more restrictive criteria when conducting ECDA for the first time on a covered segment; and

(ii) The basis on which an operator selects at least two different, but complementary indirect assessment tools to assess each ECDA Region. If an operator utilizes an indirect inspection method that is not discussed in Appendix A of NACE RP0502-2002, the operator must demonstrate the applicability, validation basis, equipment used, application procedure, and utilization of data for the inspection method.

(2) Indirect examination. In addition to the requirements in ASME/ANSI B31.8S section 6.4 and NACE RP 0502-2002, section 4, the plan's procedures for indirect examination of the ECDA regions must include—

(i) Provisions for applying more restrictive criteria when conducting ECDA for the first time on a covered segment;

(ii) Criteria for identifying and documenting those indications that must be considered for excavation and direct examination. Minimum identification criteria include the known sensitivities of assessment tools, the procedures for using each tool, and the approach to be used for decreasing the physical spacing of indirect assessment tool readings when the presence of a defect is suspected;

(iii) Criteria for defining the urgency of excavation and direct examination of each indication identified during the indirect examination. These criteria must specify how an operator will define the urgency of excavating the indication as immediate, scheduled or monitored; and

(iv) Criteria for scheduling excavation of indications for each urgency level.

(3) Direct examination. In addition to the requirements in ASME/ANSI B31.8S section 6.4 and NACE RP 0502-2002, section 5, the plan's procedures for direct examination of indications from the indirect examination must include—

(i) Provisions for applying more restrictive criteria when conducting ECDA for the first time on a covered segment;

(ii) Criteria for deciding what action should be taken if either:

(A) Corrosion defects are discovered that exceed allowable limits (Section 5.5.2.2 of NACE RP0502-2002), or

(B) Root cause analysis reveals conditions for which ECDA is not suitable (Section 5.6.2 of NACE RP0502-2002);

(iii) Criteria and notification procedures for any changes in the ECDA Plan, including changes that affect the severity classification, the priority of direct examination, and the time frame for direct examination of indications; and

(iv) Criteria that describe how and on what basis an operator will reclassify and reprioritize any of the provisions that are specified in section 5.9 of NACE RP0502-2002.

(4) Post assessment and continuing evaluation. In addition to the requirements in ASME/ANSI B31.8S section 6.4 and NACE RP 0502-2002, section 6, the plan's procedures for post assessment of the effectiveness of the ECDA process must include—

(i) Measures for evaluating the long-term effectiveness of ECDA in addressing external corrosion in covered segments; and

(ii) Criteria for evaluating whether conditions discovered by direct examination of indications in each ECDA region indicate a need for reassessment of the covered segment at an interval less than that specified in § 192.939. (See Appendix D of NACE RP0502-2002.)

* * * * *

4. Section 192.935 is amended by revising the introductory text of paragraph (d) to read as follows:

§ 192.935 What additional preventive and mitigative measures must an operator take?

* * * * *

(d) Pipelines operating below 30% SMYS. An operator of a transmission pipeline operating below 30% SMYS located in a high consequence area must follow the requirements in paragraphs (d)(1) and (d)(2) of this section. An operator of a transmission pipeline operating below 30% SMYS located in a Class 3 or Class 4 area but not in a high consequence area must follow the requirements in paragraphs (d)(1), (d)(2) and (d)(3) of this section.

* * * * *

Appendix E to Part 192—[Amended]

5. In Appendix E to Part 192, the introductory text of Section I is amended by removing the words “method (a) or (b)” from the second sentence and adding the words “method (1) or (2)” in its place.

Issued in Washington, DC, on May 20, 2004.
Samuel G. Bonasso,
Deputy Administrator.

[FR Doc. 04-11789 Filed 5-25-04; 8:45 am]

BILLING CODE 4910-60-P